FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel—Operating Common Carrier Ocean Transportation Intermediary Applicants

Marco Polo Logistics (LAX) Inc., 2411 Santa Fe Avenue, Suite B, Redondo Beach, CA 90278. Officers: Wei Sheung Ling, Secretary, (Qualifying Individual), James Ya-Hsiung Wu, President.

Royaline Shipping Line, 646 Fairview Avenue, Suite 20, Arcadia, CA 91007. Officer: Wei Wei Xu, President, (Qualifying Individual).

Likwidd International Inc., 9690 Telstar Avenue, Suite 226, El Monte, CA 91731. Officers: Xiao Fang Liu, President, (Qualifying Individual), Xiu Juan Lai, Secretary.

Easy On Logistics, Inc., 240 South Garfield Avenue, Suite 302, Alhambra, CA 91801. Officers: Victoria Florio, Secretary, (Qualifying Individual), Paul N. Florio, President.

Cajero, LLC dba Waes Cargo International, 2810 Morris Avenue, Suite 205, Union, NJ 07083. Officers: Joseph F. Kamara, Sen. Export Coordinator, Idrissa Diallo, Sen. Export Coordinator, Robert E. Smallwood, Manager, (Qualifying Individuals).

Marco Polo Logistics (SFO) Inc., 152 S. Spruce Avenue, S. San Francisco, CA 94080. Officers: Mike Ko-Jen Hsueh, President, (Qualifying Individual), Shirley Yuan Li Ho, CFO.

Ocean Pacific Brokerage & Air Cargo Corp., dba Air Pacific Cargo, 16 Corning Avenue, Suite 154, Milpitas, CA 95035. Officers: Blas De Leon Caliva, CFO, (Qualifying Individual), Jessie Gonzaga, CEO.

Non-Vessel-Operating Common Carrier and Ocean Freight Forwarder Transportation Intermediary Applicants

Amad Logistics, LLC, 1402 NW. 82nd Avenue, Doral, FL 33126. Officer: Agustin G. Mendoza, Managing Member, (Qualifying Individual).

Prime Logistics International, Inc., 3225 SW. 124 CT, Miami, FL 33175. Officer: Jose Chao, President, (Qualifying Individual).

Ocean Freight Forwarder—Ocean Transportation Intermediary Applicants

R & J Global, 371 Winona Lakes, East Stroudsburg, PA 18302, Rachelle P. Gonzalo, Sole Proprietor.

AAA Cuban Transportation Cargo & Logistics, Inc., 6025 W. 12th Avenue, Hialeah, FL 33012. Officer: Eduardo Mena, President, (Qualifying Individual).

Dated: March 9, 2007.
Bryant L. VanBrakle,
Secretary.

[FR Doc. E7-4666 Filed 3-13-07; 8:45 am]

BILLING CODE 6730-01-P